SMALL BUSINESS ADMINISTRATION

Escalate Capital Partners SBIC I, L.P.; License No. 06/06-0335; Notice Seeking Exemption Under Section 312 of the Small Business Investment Act, Conflicts of Interest

Notice is hereby given that Escalate Capital Partners SBIC I, L.P., 300 W. 6th Street, Suite 2250, Austin, TX 78701, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). Escalate Capital Partners SBIC I, L.P. seeks to provide debt financing to Donuts, Inc., 10500 NE 8th Street, Suite 350, Bellevue, WA 98004. The proceeds will be used to refinance existing debt, buy top level domain names, and for general corporate purposes, including new hiring.

The financing is brought within the purview of § 107.730(a)(1) of the Regulations because Austin Ventures, an Associate of Escalate Capital Partners SBIC I, L.P., owns more than ten percent of Donuts, Inc.; therefore this transaction is considered financing an Associate requiring SBA prior written exemption.

Notice is hereby given that any interested person may submit written comments on the transaction, within fifteen days of the date of this publication, to the Associate Administrator for the Office of Investment and Innovation, U.S. Small Business Administration, 409 Third Street SW., Washington, DC 20416.

Dated: December 17, 2014.
Javier E. Saade,
Associate Administrator for Office of Investment and Innovation.

[FR Doc. 2014-30148 Filed 12-23-14; 8:45 am]

BILLING CODE P